NUCLEAR REGULATORY COMMISSION

Office of New Reactors; Notice of Availability of the Final Interim Staff Guidance DC/COL-ISG-05 on the Use of the GALE86 Code for Calculation of Routine Radioactive Releases in Gaseous and Liquid Effluents

AGENCY: Nuclear Regulatory Commission (NRC).

ACTION: Notice of availability.

SUMMARY: The NRC is issuing its Final Interim Staff Guidance (ISG) DC/COL-ISG-05 (ADAMS Accession No. ML081710264). This interim staff guidance supplements the guidance provided to the staff in Chapter 11, “Radioactive Waste Management,” of NUREG-0800, “Standard Review Plan for the Review of Safety Analysis Reports for Nuclear Power Plants,” concerning the review of radioactive releases in gaseous and liquid effluents (GALE) to support design certification (DC) and combined license (COL) applications. This guidance provides a clarification on the use of a newer version of the boiling-water reactor and pressurized-water reactors GALE codes that is not referenced in the current NRC guidance.

The NRC staff issues DC/COL-ISGs to facilitate timely implementation of the current staff guidance and to facilitate activities associated with review of applications for DC and COLs by the Office of New Reactors. The NRC staff will also incorporate the approved DC/COL-ISGs into the next revision to the review guidance documents for applications for new reactors, RG 1.206 and RG 1.112.

Disposition: On March 19, 2008, the staff issued the proposed ISG “Use of the GALE86 Code for Calculation of Routine Radioactive Releases in Gaseous and Liquid Effluents to Support Design Certification and Combined License Applications,” (COL/DC-ISG-005) (ADAMS Accession No. ML080650651) to solicit public and industry comment. The staff did not receive any comments on the draft ISG. Therefore, the ISG is now being issued for use.

ADDRESSES: The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr@nrc.gov.

FOR FURTHER INFORMATION CONTACT: Mr. Timothy J. Frye, Chief, Health Physics Branch, Division of Construction, Inspection, & Operational Programs, Office of the New Reactors, U.S. Nuclear Regulatory Commission, Washington, DC 20555-0001; telephone 301-415-3900 or e-mail at timothy.frye@nrc.gov.

SUPPLEMENTARY INFORMATION: The agency posts its issued staff guidance on the agency external Web page (http://www.nrc.gov/reading-rm/doc-collections/isg/).

Dated at Rockville, Maryland, this 10th day of July 2008.
For the Nuclear Regulatory Commission,
William D. Reckley,
Branch Chief, Rulemaking, Guidance and Advanced Reactors Branch, Division of New Reactor Licensing Office of New Reactors.

[FR Doc. E8-16364 Filed 7-16-08; 8:45 am]

BILLING CODE 7590-01-P